DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology. Proposed Projects 1. Assessment of State Laws, Regulations, and Practice Affecting the Collection and Reporting of Racial and Ethnic Data by Health Insurers and Managed Care Plans—NEW—One of the overarching goals of Healthy People 2010 is the elimination of health disparities, including those associated with race and ethnicity. The lack of data is a barrier to performance measurement for this goal. Therefore, the Office of Minority Health is proposing a study which will examine States' laws and policies concerning the collection and use of racial and ethnic data by health insurers and managed care plans. The study involves visits to 13 States for an in-depth look at their policies and practices, interviews with State officials and representatives of the States' major managed care plans and health insurance industry, and focus groups with consumer and civil right organizations. Respondents: State or local governments; businesses or other for-profit; non-profit institutions.

Burden Information
Instrument | Number of respondents | Hours per response | Total burden hours
Administrator Interview Guide | 78 | 4 | 312
Consumer Focus Group | 130 | 2 | 260
Total |  |  | 572

Send comments to Cynthia Agens Bauer, OS Reports Clearance Officer, Room 503H, Humphrey Building, 200 Independence Avenue SW., Washington DC, 20201. Written comments should be received within 60 days of this notice.

Dated: May 22, 2001.
Kerry Weems,
Acting Deputy Assistant Secretary, Budget.

[FR Doc. 01-14056 Filed 6-4-01; 8:45 am]

BILLING CODE 4150-29-M